DEPARTMENT OF TRANSPORTATION

Federal Railroad Administration

[Docket No. FRA-2022-0058, Notice No. 1]

Review of Quiet Zone in Deerfield Beach, Pompano Beach, Fort Lauderdale, Oakland Park, Wilton Manors, Dania Beach, Hollywood, and Hallandale Beach, Florida

AGENCY: Federal Railroad Administration (FRA), Department of Transportation (DOT).

ACTION: Notice of quiet zone review.

SUMMARY: FRA is providing notice of its intent to review a quiet zone located in Deerfield Beach, Pompano Beach, Fort Lauderdale, Oakland Park, Wilton Manors, Dania Beach, Hollywood, and Hallandale Beach, Florida (Cities). Based on a high rate of reported accidents/incidents and related injuries and fatalities that occurred between January and December 2022, FRA has made a preliminary determination that the safety systems and measures implemented within the quiet zone do not fully compensate for the absence of routine sounding of locomotive horns due to a substantial increase in risk. In addition, FRA has made a preliminary determination of significant risk with respect to loss of life or serious personal injury within the quiet zone. Therefore, FRA intends to review existing conditions within the quiet zone to determine whether the quiet zone should be terminated or whether additional safety measures may be necessary to ensure motorist and pedestrian safety.

DATES: Written comments must be received on or before May 8, 2023. FRA will consider comments filed after this date to the extent practicable.

ADDRESSES: Comments: Comments related to this notice may be submitted by going to https://www.regulations.gov and following the online instructions for submitting comments.

Instructions: All submissions must include the agency name and docket number (FRA-2022-0058). Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL-14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: James Payne, Staff Director, Highway-Rail Crossing and Trespasser Programs Division (telephone: 202-441-2787, email: james.payne@dot.gov); or Kathryn Gresham, Attorney-Adviser, Office of the Chief Counsel (telephone: 202-577-7142, email: kathryn.gresham@dot.gov).

SUPPLEMENTARY INFORMATION:

Background

FRA's amended final rule on the Use of Locomotive Horns at Public Highway-Rail Grade Crossings, which was issued on August 17, 2006,¹ permits a jurisdiction to establish a quiet zone by designation, if the jurisdiction attests that they have implemented safety measures that reduce the risk of accidents/incidents and fatalities at public highway-rail grade crossings within the quiet zone to the Risk Index With Horns (RIWH).² Through issuance of a Notice of Quiet Zone Establishment, dated April 24, 2019, the Cities established a multi-jurisdictional quiet zone in Broward County, Florida (THR-000001420003) that includes the following highway-rail grade crossings:

¹ 71 FR 47613, codified at 49 CFR parts 222 and 229.

² The RIWH is the level of risk to the motoring public when locomotive horns are routinely sounded at every public highway-rail grade crossing within the quiet zone.

State | City | U.S. DOT crossing inventory No. (GX ID) | Street name
FL | Deerfield Beach | 272511K | NE 2nd Street.
FL | Deerfield Beach | 272512S | Hillsboro Blvd.
FL | Deerfield Beach | 272513Y | SE 4th Street.
FL | Deerfield Beach | 272514F | SW 10th Street.
FL | Deerfield Beach | 272515M | SW 15th Street.
FL | Pompano Beach | 272516U | NE 48th Street.
FL | Pompano Beach | 272517B | Sample Road.
FL | Pompano Beach | 272518H | NE 33rd Street.
FL | Pompano Beach | 272519P | Copans Road.
FL | Pompano Beach | 272526A | NE 10th Street.
FL | Pompano Beach | 272528N | NE 6th Street.
FL | Pompano Beach | 272531W | NE 3rd Street.
FL | Pompano Beach | 272533K | West Atlantic Avenue.
FL | Pompano Beach | 272534S | SW 2nd Street.
FL | Pompano Beach | 272535Y | SW 6th Street.
FL | Oakland Park | 272536F | Cypress Creek Road.
FL | Oakland Park | 272537M | Commercial Blvd.
FL | Oakland Park | 272538U | NE 45th Street.
FL | Oakland Park | 272540V | NE 38th Street.
FL | Oakland Park | 272541C | NE 36th Street.
FL | Oakland Park | 272542J | NE 34th Court.
FL | Oakland Park | 272544X | Oakland Park Blvd.
FL | Wilton Manors | 272545E | NE 26th Street.
FL | Wilton Manors | 272546L | NE 24th Street.
FL | Fort Lauderdale | 272547T | NE 17th Court.
FL | Fort Lauderdale | 272548A | NE 13th Street.
FL | Fort Lauderdale | 272549G | Sunrise Blvd.
FL | Fort Lauderdale | 272550B | NE 3rd Avenue.
FL | Fort Lauderdale | 272551H | North Andrews Avenue.
FL | Fort Lauderdale | 272552P | Sistrunk Blvd.
FL | Fort Lauderdale | 272553W | NE 4th Street.
FL | Fort Lauderdale | 272556S | West Broward Blvd.
FL | Fort Lauderdale | 272557Y | SW 2nd Street.
FL | Fort Lauderdale | 272558F | SW 5th Street.
FL | Fort Lauderdale | 272559M | SW 6th Street.
FL | Fort Lauderdale | 272560G | SW 7th Street.
FL | Fort Lauderdale | 272561N | SW 9th Street.
FL | Fort Lauderdale | 272562V | Davie Blvd.
FL | Fort Lauderdale | 272563C | SW 15th Street.
FL | Fort Lauderdale | 272564J | SW 17th Street.
FL | Fort Lauderdale | 272566X | SW 22nd Street.
FL | Fort Lauderdale | 272567E | SW 24th Street.
FL | Dania | 272571U | Griffin Road.
FL | Dania | 272572B | NW 4 Old Griffin Road.
FL | Dania | 272573H | NW 1st Street.
FL | Dania | 272574P | West Dania Beach Blvd.
FL | Dania | 272575W | Stirling Road.
FL | Dania | 272576D | Dixie Highway.
FL | Hollywood | 272577K | Sheridan Street.
FL | Hollywood | 272578S | Taft Street.
FL | Hollywood | 272582G | Garfield Street.
FL | Hollywood | 272584V | Johnson Street.
FL | Hollywood | 272585C | Filmore Street.
FL | Hollywood | 272586J | Hollywood Blvd.
FL | Hollywood | 272587R | Harrison Street.
FL | Hollywood | 272588X | Monroe Street.
FL | Hollywood | 272589E | Washington Street.
FL | Hallandale | 272590Y | Pembroke Road.
FL | Hallandale | 272591F | NW 3rd Street.
FL | Hallandale | 272592M | E. Hallandale Beach Blvd.
FL | Hallandale | 272593U | SW 3rd Street.
FL | Hollywood | 272868A | Tyler Street.
FL | Oakland Park | 272870B | NE 56th Street.
FL | Pompano Beach | 273022D | SW 3rd St.

According to the Notice of Quiet Zone Establishment, this crossing corridor qualified for quiet zone status on the basis of having a Quiet Zone Risk Index that was below the RIWH. Accordingly, the Notice of Quiet Zone Establishment indicated that the Cities had taken appropriate measures to compensate for the excess risk that results from restricting routine train horn sounding at the highway-rail grade crossings identified in the notice, and the quiet zone took effect on May 18, 2019.

Substantial Increase in Risk

As reflected in the table below, between January and December 2022, at least 34 accidents/incidents have occurred within this multi-jurisdictional quiet zone, resulting in 22 fatalities, six injuries, and six incidents where no injuries were reported. This is a significant number of accidents/incidents and fatalities as compared to quiet zone accident/incident data over the same period in other quiet zones across the country. While accidents/incidents and fatalities have occurred throughout the quiet zone, the table below reflects a concentration of accident/incidents and fatalities around Hollywood, Florida, including those involving persons classified as trespassers. In accordance with 49 CFR 222.51(c), FRA has made a preliminary determination that there is significant risk with respect to loss of life or serious personal injury within this quiet zone which necessitates a review by FRA.

No. | Date | Incident | City | GX ID
1 | 19-Jan-22 | Fatality | Deerfield Beach, FL | 272513Y.
2 | 27-Jan-22 | Fatality | Hollywood, FL | 272587R.
3 | 12-Feb-22 | Injury | Hollywood, FL | 272582G.
4 | 15-Feb-22 | Fatality | Hallandale Beach, FL | Trespass.
5 | 21-Feb-22 | Fatality | Hollywood, FL | Trespass.
6 | 25-Feb-22 | Non-Injury | Pompano Beach, FL | 272518H.
7 | 06-Mar-22 | Injury | Oakland Park, FL | 272542J.
8 | 12-Mar-22 | Fatality | Hollywood, FL | Trespass.
9 | 18-Mar-22 | Injury | Hallandale Beach, FL | 272593U.
10 | 31-Mar-22 | Injury | Wilton Manors, FL | 272545E.
11 | 04-Apr-22 | Injury | Hallandale Beach, FL | 272595H.
12 | 12-Apr-22 | Fatality | Oakland Park, FL | Trespass.
13 | 20-Apr-22 | Non-Injury | Oakland Park, FL | 272542J.
14 | 02-May-22 | Fatality | Pompano Beach, FL | 272528N.
15 | 03-May-22 | Fatality | Hollywood, FL | 272582G.
16 | 07-May-22 | Fatality | Pompano Beach, FL | 272519P.
17 | 08-May-22 | Non-Injury | Pompano Beach, FL | 272531W.
18 | 25-May-22 | Fatality | Pompano Beach, FL | Trespass.
19 | 31-May-22 | Fatality | Pompano Beach, FL | Trespass.
20 | 02-Jun-22 | Fatality | Pompano Beach, FL | Trespass.
21 | 07-Jun-22 | Fatality | Pompano Beach, FL | 272536F.
22 | 13-Jun-22 | Non-Injury | Dania Beach, FL | 272576D.
23 | 24-Aug-22 | Fatality | Hollywood, FL | Trespass.
24 | 30-Aug-22 | Fatality | Wilton Manor, FL | Trespass.
25 | 02-Sep-22 | Fatality | Oakland Park, FL | Trespass.
26 | 06-Sep-22 | Non-Injury | Pompano Beach, FL | 272533K.
27 | 19-Sep-22 | Fatality | Hollywood, FL | 272868A.
28 | 01-Oct-22 | Fatality | Oakland, FL | Trespass.
29 | 03-Oct-22 | Injury | Hollywood, FL | Trespass.
30 | 01-Nov-22 | Non-Injury | Fort Lauderdale, FL | Trespass.
31 | 15-Nov-22 | Fatality | Fort Lauderdale, FL | Trespass.
32 | 21-Nov-22 | Fatality | Dania Beach, FL | Trespass.
33 | 11-Dec-22 | Fatality | Hollywood, FL | 272588X.
34 | 27-Dec-22 | Fatality | Fort Lauderdale, FL | Trespass.

Scope of Review

Since 1991, when FRA issued Emergency Order No. 15 regarding the use of locomotive horns at public highway-rail grade crossings,³ FRA has adopted a corridor-wide approach to evaluating and mitigating risk within quiet zones. A corridor-wide approach permits the most efficient deployment of risk reduction measures and encourages public authorities to focus their resources on addressing the most hazardous public highway-rail grade crossings.

³ 56 FR 36190 (July 31, 1991).

As described in this notice, FRA intends to conduct a review of this multi-jurisdictional quiet zone (THR-000001420003) located along the Brightline passenger rail corridor and Florida East Coast Railway (FEC) freight rail corridor.

Interested parties are invited to submit written comments on this quiet zone review to the docket. FRA is interested in obtaining information from the public about the prevalence of unsafe actions that have been observed at any of the above-listed grade crossings, including information about motorists or pedestrians that have been observed engaging in unsafe actions at any of the above-listed grade crossings. FRA is also interested in obtaining information from public authorities in the affected quiet zone about the effectiveness of existing quiet zone crossing safety improvements, as well any additional quiet zone safety improvements that may be under consideration and the anticipated timeline for implementing any such improvements. Please refer to the ADDRESSES section above for guidance on the submission of comments to the electronic docket.

After the comment period closes, the Associate Administrator may require that additional safety measures be taken or that the quiet zone be terminated. The Associate Administrator will provide a copy of his decision to the Cities in which this multi-jurisdictional quiet zone is located, as well as the railroads that operate through the quiet zone and the State agencies responsible for grade crossing, highway, and road safety.

Issued in Washington, DC.
John Karl Alexy,
Associate Administrator for Railroad Safety, Chief Safety Officer.

[FR Doc. 2023-07293 Filed 4-6-23; 8:45 am]

BILLING CODE 4910-06-P